DEPARTMENT OF COMMERCE

International Trade Administration

A-427-009, A-428-803, A-580-805, A-588-812, A-570-802, and A-412-803

Industrial Nitrocellulose from France, Germany, Korea, Japan, the People's Republic of China, and the United Kingdom: Notice of Initiation of Changed Circumstances Reviews and Consideration of Revocation of the Antidumping Duty Orders

AGENCY: Import Administration, International Trade Administration, Department of Commerce.

ACTION: Notice of initiation of changed circumstances reviews.

SUMMARY: On February 12, 2004, in accordance with 19 CFR 351.216(b), Wolff Cellulosics GmbH (Wolff), a German manufacturer of industrial nitrocellulose (INC), filed a request for a changed circumstances review of the antidumping duty order on INC from Germany. On March 9, 2004, the Valspar Corporation (Valspar), an importer of INC and an interested party in multiple proceedings, filed requests for changed circumstances reviews of the antidumping duty orders on INC from France, Germany, Korea, Japan, the People's Republic of China (PRC), and the United Kingdom (UK), as described below. In response to these requests, the Department of Commerce (the Department) is initiating changed circumstances reviews of the antidumping duty orders on INC from France, Germany, Korea, Japan, the PRC, and the UK.

EFFECTIVE DATE: April 5, 2004.

FOR FURTHER INFORMATION CONTACT: Ron Trentham or Tom Futtner, Office of AD/CVD Enforcement 4, Group II, Import Administration, International Trade Administration, U.S. Department of Commerce, 14th Street and Constitution Avenue, N.W., Washington, DC 20230; telephone (202) 482-6320 or (202) 482-3814, respectively.

SUPPLEMENTARY INFORMATION:

Background

On August 10, 1983, the Department published in the Federal Register the antidumping duty order on INC from France. See 48 FR 36303 (August 10, 1983). On July 10, 1990, the Department published in the Federal Register the antidumping duty orders on INC from Germany, Korea, Japan, the PRC, and the UK. See 55 FR 28266-28271 (July 10, 1990).

On February 12, 2004, Wolff requested that the Department revoke the antidumping duty order on INC from Germany through a changed circumstances review. According to Wolff, revocation is warranted because there is no longer any producer of the domestic like product. Specifically, Wolff asserts that Green Tree Chemical Technologies, Inc. (Green Tree), the sole producer of the domestic like product, has ceased production and no longer maintains the capacity to produce INC. See Wolff's February 12, 2004, letter at Exhibits A and B.

On March 9, 2004, Valspar requested that the Department initiate a changed circumstances review and revoke the antidumping duty orders on INC from France, Germany, Korea, Japan, the PRC, and the UK. Valspar claims that in November 2003, without prior announcement, Green Tree closed its INC production facility. According to Valspar, the alleged cessation of production of the domestic like product by the sole U.S. producer inherently constitutes “lack of interest” by the domestic industry in the continuation of the antidumping duty orders. See Valspar's March 9, 2004, letter, Request for Initiation of Changed Circumstances Review Seeking Revocation of the Antidumping Duty Order on Industrial Nitrocellulose from France, at pages 1-2.

Scope of the Orders

The product covered by these orders are shipments of INC from France, Germany, Japan Korea, the PRC and the UK. INC is a dry, white, amorphous synthetic chemical with a nitrogen content between 10.8 and 12.2 percent and is produced from the reaction of cellulose with nitric acid. INC is used as a film-former in coatings, lacquers, furniture finishes, and printing inks. The scope of the orders does not include explosive grade nitrocellulose, which has a nitrogen content of greater than 12.2 percent. INC is currently classified under Harmonized Tariff Schedule (HTS) subheading 3912.20.00. The HTS item number is provided for convenience and customs purposes only. The written description above remains dispositive as to the scope of the product coverage.

Initiation of Changed Circumstances Reviews

Pursuant to sections 751(d) and 782(h)(2) of the Tariff Act of 1930, as amended (the Act), the Department may revoke an antidumping or countervailing duty order based on a review under section 751(b) of the Act (i.e., a changed circumstances review) if the Department determines that producers accounting for substantially all of the production of that domestic like product have expressed a lack of interest in the continuance of an order. Section 751(b)(1) of the Act requires that a changed circumstances review be conducted upon receipt of a request for a review which shows changed circumstances sufficient to warrant a review. The Department's regulations at 19 CFR 351.222(g) provide that the Department may revoke an order (in whole or in part) if it determines that producers accounting for substantially all of the production of the domestic like product to which the order (or the part of the order to be revoked) pertains have expressed a lack of interest in the order, in whole or in part, or if other changed circumstances sufficient to warrant revocation exist.

In this case, the Department finds that the information submitted provides sufficient evidence of changed circumstances to warrant a review. Given Wolff's and Valspar's assertions, we will consider whether there is interest in continuing the orders on the part of the U.S. industry.

Interested parties may submit comments which the Department will take into account in the preliminary results of these reviews. Parties who submit comments are requested to submit with the comments (i) a statement of the issues, and (ii) a brief summary of the arguments. The due date for filing any such comments is no later than 20 days after publication of this notice. Any rebuttals to those comments may be submitted not later than five days following submission of the comments. All written comments must be submitted in accordance with 19 CFR 351.303 and must be served on all interested parties on the Department's service list in accordance with 19 CFR 351.303(f).

On February 19, 2004, the Department initiated, on similar grounds, a changed circumstances review of the antidumping order on INC from Brazil. See Industrial Nitrocellulose From Brazil: Notice of Initiation of Changed Circumstances Review and Consideration of Revocation of the Antidumping Duty Order, 69 FR 8626 (February 25, 2004). Because these seven orders are affected by the same circumstances pertaining to the domestic industry, the Department plans to publish in the Federal Register a combined notice of preliminary results of changed circumstances reviews of the antidumping duty orders on INC from Brazil, France, Germany, Korea, Japan, the PRC, and the UK. In accordance with 19 CFR 351.221(c)(3)(I), the notice will set forth the factual and legal conclusions upon which our preliminary results are based and a description of any action proposed based on these results. The Department will also issue its final results of reviews within 270 days of February 19, 2004, the date of initiation of the changed circumstances review of the antidumping duty order on INC from Brazil, in accordance with 19 CFR 351.216(e), and will publish these results in the Federal Register.

While the changed circumstances reviews are underway, the current requirement for a cash deposit of estimated antidumping duties on all subject merchandise will continue to be in force, unless and until it is modified pursuant to the final results of the changed circumstances reviews.

This notice is in accordance with section 751(b)(1) of the Act and 19 CFR 351.216, 351.221(B)(i), and 351.222.

Dated: March 29, 2004.
James J. Jochum,
Assistant Secretary for Import Administration.

[FR Doc. 04-7644 Filed 4-4-04; 8:45 am]

BILLING CODE 3510-DS-S